DEPARTMENT OF THE TREASURY

Office of Thrift Supervision

[AC-2: OTS Nos. H-3289 and 04726]

Willow Grove Bancorp, Inc., Pennsylvania; Approval of Conversion Application

Notice is hereby given that on, February 11, 2002, the Director, Examination Policy, Office of Thrift Supervision (“OTS”), or her designee, acting pursuant to delegated authority, approved the application of Willow Grove Bancorp, Inc., Maple Glen, Pennsylvania, to convert to the stock form of organization. Copies of the application are available for inspection by appointment (phone number: 202-906-5922 or e-mail: Public.Info@OTS.Treas.gov) at the Public Reading Room, OTS, 1700 G Street, NW, Washington, DC 20552, and the OTS Northeast Regional Office, 10 Exchange Place, 18th Floor, Jersey City, New Jersey 07302.

Dated: February 14, 2002.
By the Office of Thrift Supervision.
Nadine Y. Washington,
Corporate Secretary.

[FR Doc. 02-4092 Filed 2-19-02; 8:45 am]

BILLING CODE 6720-02-M